DEPARTMENT OF HEALTH AND HUMAN SERVICES

Health Resources and Services Administration

Agency Information Collection Activities: Submission to OMB for Review and Approval; Public Comment Request

AGENCY: Health Resources and Services Administration, HHS.

ACTION: Notice.

SUMMARY: In compliance with Section 3507(a)(1)(D) of the Paperwork Reduction Act of 1995, the Health Resources and Services Administration (HRSA) has submitted an Information Collection Request (ICR) to the Office of Management and Budget (OMB) for review and approval. Comments submitted during the first public review of this ICR will be provided to OMB. OMB will accept further comments from the public during the review and approval period.

DATES: Comments on this ICR should be received within 30 days of this notice.

ADDRESSES: Submit your comments, including the Information Collection Request Title, to the desk officer for HRSA, either by email to OIRA_submission@omb.eop.gov or by fax to 202-395-5806.

FOR FURTHER INFORMATION CONTACT: To request a copy of the clearance requests submitted to OMB for review, email the HRSA Information Collection Clearance Officer at paperwork@hrsa.gov or call (301) 443-1984.

SUPPLEMENTARY INFORMATION:

Information Collection Request Title: Grant Reviewer Recruitment Form

OMB No. 0915-0295 − Revision

Abstract: HRSA's Division of Independent Review (DIR) is responsible for administering the review of eligible grant applications submitted to HRSA. DIR ensures that the objective review process is independent, efficient, effective, economical, and complies with the applicable statutes, regulations, and policies. Applications are reviewed by subject experts knowledgeable in health and public health disciplines for which support is requested. Review findings are advisory to HRSA programs responsible for making award decisions.

This announcement is a request for approval of the proposed information collection system, the Reviewer Recruitment Module (RRM). HRSA utilizes an existing web-based data collection form and database to gather critical reviewer information. The existing on-line Grant Reviewer Recruitment Form uses standardized categories of information in drop down menu format for data such as: degree, specialty, occupation, work setting; and in select instances affiliations with organizations and institutions that serve special populations. Some program regulations require that application objective review panels contain consumers of health services. Other demographic data may be voluntarily provided by a potential reviewer. Defined data elements help HRSA find and select expert grant reviewers for objective review committees. The web-based system also permits reviewers to access and update their information at will and as needed. HRSA maintains a roster of approximately 9,000 qualified individuals who have actively served on HRSA objective review committees. The updated RRM simplifies reviewer application entry using: a user-friendly Graphical User Interface (GUI) with fewer data drop down menu choices, and a search engine that supports key word queries in the actual resume text. The RRM will be 508 compliant and accessible by the general public via a link on the HRSA internet site, or by keying the RRM URL into their browser. The RRM will be accessible using any of the commonly used internet browsers.

Need and Proposed Use of the Information: HRSA currently utilizes a web-based data collection Grant Reviewer Recruitment Form to collect information from individuals who wish to volunteer as objective review committee participants for the Agency's discretionary, competitive grant, or cooperative agreement funding opportunities. The RRM will replace the original with a user friendly web-based application that is easier and much less burdensome to access, use, and update for potential reviewers. RRM will also provide HRSA with more robust, efficient, and effective search and communication functionality with which to identify and contact qualified potential grant reviewers. The RRM will have an enhanced search and reporting capability to help DIR ensure that HRSA's reviewer pool has the necessary skills and diversity to meet our evolving need for qualified reviewers. If DIR identifies either an expertise or demographic that is underrepresented in the RRM pool, DIR can recruit specifically to address those needs. Expertise is always the primary determinant in selecting potential reviewers for any specific grant review; no reviewer is required to provide demographic information to join the reviewer pool or be selected as a reviewer for any competition.

Likely Respondents: All HRSA reviewers must possess the technical skills and abilities to access the internet on a secure desktop, laptop, or touch pad, and either a land line or Voice Over Internet Protocol capability in order to participate in HRSA objective review committees. The reviewer expertise and experience needed varies with each competitive grant program but is consistent with the HRSA mission to address the availability and delivery of quality health care to all Americans. Generally, our reviewers are current or retired professionals with backgrounds in health care, health service delivery, and education and career development in relevant professions and health center facilities' financing, planning, construction, and management. Certain HRSA programs require by legislation the inclusion of consumers of specific health care services in the objective review committee. In these instances consumers of those specified services are qualified per se to be considered for certain objective reviews.

Burden Statement: Burden in this context means the time expended by persons to generate, maintain, retain, disclose or provide the information requested. This includes the time needed to review instructions; to develop, acquire, install and utilize technology and systems for the purpose of collecting, validating and verifying information, processing and maintaining information, and disclosing and providing information; to train personnel and to be able to respond to a collection of information; to search data sources; to complete and review the collection of information; and to transmit or otherwise disclose the information.

The total annual burden hours estimated for this ICR are summarized in the table below.

Total Estimated Annualized Burden—Hours
Form name | Number of respondents | Responses per respondent | Total responses | Average burden per response (in hours) | Total burden hours
New reviewer | 5,000 | 1 | 5,000 | .333 | 1,665
Updating reviewer information | 250 | 1 | 250 | .166 | 42
Total | 5,250 |  |  |  | 1,707

Dated: October 25, 2013.
Bahar Niakan,
Director, Division of Policy and Information Coordination.

[FR Doc. 2013-26062 Filed 10-31-13; 8:45 am]

BILLING CODE 4165-15-P